DEPARTMENT OF COMMERCE

National Oceanic and Atmospheric Administration

RIN: 0648-XG51

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held April 7, 2008 through April 11, 2008. See SUPPLEMENTARY INFORMATION for specific dates and times.

ADDRESSES: The meetings will be held at the Embassy Suites Hotel, 4914 Constitution Ave., Baton Rouge, LA 70808.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Thursday, April 10, 2008

1 p.m.—The Council meeting will begin with a review of the agenda and minutes.

1:15 p.m.-1:20 p.m.—The Council will approve the members of the Outreach and Education Committee.

1:20 p.m.-5:30 p.m.—The Council will receive public testimony on: (a) exempted fishing permits (EFPs), if any; (b) Final Action on Reef Fish Amendment 30B; and (c) Generic Aquaculture Amendment. An Open Public Comment Period regarding any fishery issue of concern will be immediately following completion of public testimony for a maximum of 1 hour. People wishing to speak before the Council should complete a public comment card prior to the comment period.

Friday, April 11, 2008

The Council will review and discuss reports from the previous three days' committee meetings as follows:

8:30 a.m.-10:30 a.m.—Reef Fish Management;

10:30 a.m.-10:45 a.m.—Ad Hoc Allocation;

10:45 a.m.-11 a.m.—Shrimp Management;

11 a.m.-11:30 a.m.—Joint Reef Fish/Mackerel/Red Drum;

11:30 a.m.-11:45 a.m.—Habitat Protection;

11:45 a.m.-12 noon—Budget/Personnel;

12 noon-12:15 p.m.—AP Selection;

12:15 p.m.-12:30 p.m.—SSC Selection;

12:30 p.m.-12:45 p.m.—Operator Permits;

12:45 p.m.-1 p.m.—The Council will review regulations for Reef Fish Amendment 30B.

1 p.m.-1:30 p.m.—The Council will discuss Other Business item.

1:30 p.m.—The Council will conclude its meeting.

Committees

Monday, April 7, 2008—ALL CLOSED SESSIONS

1 p.m.-3 p.m.—CLOSED SESSION—Budget/Personnel Committee will interview and select a Staff Biologist. It will review the Executive Director's position description, rating sheet, and interview questions.

3 p.m.-4:30 p.m.—CLOSED SESSION—AP Selection Committee will review attendance and appoint new nominees to the AP.

4:30 p.m.-5:30 p.m.—CLOSED SESSION—SSC Selection Committee will review attendance and appoint new nominees to the SSC.

Tuesday, April 8, 2008

8 a.m.-12 noon & 1:30 p.m.-5:30 p.m.—The Reef Fish Management Committee will meet to discuss Approval of Public Hearing Draft of Reef Fish Amendment 29; Final Action on Reef Fish Amendment 30B; and a Report of Ad Hoc Recreational Red Snapper AP Meeting.

Wednesday, April 9, 2008

8:30 a.m.-10:30 a.m.—The Ad Hoc Allocation Committee will meet to discuss Organizational Issues.

10:30 a.m.-12 noon—The Operator Permits Committee will discuss an Operator Permits Options Paper.

1:30 p.m.-3 p.m.—The Shrimp Management Committee will meet to discuss the Shrimp Vessel Effort; AP recommendations; and receive a Report on Electronic Logbooks for Shrimp Fishery.

3 p.m.-5:30 p.m.—The Joint Reef Fish/Mackerel/Red Drum Management Committee will meet to discuss the Generic Aquaculture Amendment.

5:30 p.m.-6:30 p.m.—Informal Questions and Answer Session.

Thursday, April 10, 2008

8:30 a.m.-10:30 a.m.—The Habitat Protection Committee will discuss Proposed Management Action for Flowers Garden Banks and receive an Update on LNG Facilities.

10:30 a.m.-11:30 a.m.—CLOSED SESSIONS—Council will discuss AP and SSC Selections and Budget/Personnel Issues.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: March 18, 2008.
Tracey L. Thompson,
Acting Director, Office of Sustainable Fisheries, National Marine Fisheries Service.

[FR Doc. E8-5778 Filed 3-20-08; 8:45 am]

BILLING CODE 3510-22-S